DEPARTMENT OF JUSTICE

Office of Justice Programs

[OJP (NIJ) Docket No. 1557]

National Institute of Justice Stab-Resistant Body Armor Standard Workshop

AGENCY: National Institute of Justice, DOJ.

ACTION: Notice of Meeting of the Stab-Resistant Body Armor Standard Workshop.

SUMMARY: The National Institute of Justice (NIJ) and the National Institute of Standards and Technology (NIST) are jointly hosting workshop focused on the NIJ Stab-Resistant Body Armor Standard. It is anticipated that the discussion at the workshop will be directed primarily toward manufacturers, certification bodies, and test laboratories.

NIJ and NIST are hosting this workshop specifically to discuss with interested parties the development of the revised NIJ Stab-Resistant Body Armor Standard and to receive input, comments, and recommendations. Participants are strongly encouraged to come prepared to ask questions and to voice suggestions and concerns.

Space is limited at this workshop, and as a result, only 50 participants will be allowed to register. We request that each organization limit their representatives to no more than two per organization. Exceptions to this limit may occur, should space allow. Participants planning to attend are responsible for their own travel arrangements.

Registration information may be found at http://www.justnet.org/Pages/2011_NIJ_Stab-resistant_BA_Workshop.aspx. Registration will close on July 8, 2011.

DATES: The workshop will be held on Thursday, July 14, 2011 from 9 a.m. to 3:30 p.m.

ADDRESSES: The workshop will take place at NIST, 100 Bureau Drive, Gaithersburg, MD, Building 101, Lecture Room B.

FOR FURTHER INFORMATION CONTACT: Debra Stoe, by telephone at 202-616-7036 [Note: this is not a toll-free telephone number], or by e-mail at Debra.Stoe@usdoj.gov.

Kristina Rose,
Deputy Director, National Institute of Justice.

[FR Doc. 2011-14799 Filed 6-14-11; 8:45 am]

BILLING CODE 4410-18-P